DEPARTMENT OF ENERGY

Federal Energy Regulatory Commission

[Docket No. RP00-298-003]

Kern River Gas Transmission Company; Notice of Compliance Filing

August 4, 2000.

Take notice that on July 31, 2000, Kern River Gas Transmission Company (Kern River) tendered for filing as part of its FERC Gas Tariff, Second Revised Volume No. 1, the following tariff sheets, to be effective August 31, 2000.

Second Revised Sheet No. 15

Second Revised Sheet No. 71

Second Revised Sheet No. 171

Original Sheet No. 186

Sheet Nos. 187-299 (Reserved)

Original Sheet Nos. 423-426

Sheet Nos. 427-499 (Reserved)

Second Revised Sheet No. 501

Second Revised Sheet No. 601

Second Revised Sheet No. 701

Second Revised Sheet No. 901

Kern River states that the purpose of this filing is to comply with the Commission's Order directing Kern River to file actual tariff sheets, consistent with the pro forma sheets filed in this proceeding on June 19, 2000, in order to implement its extended-term (ET) rate proposal.

Kern River states that it has served a copy of this filing upon each person designated on the official service list compiled by the Secretary in this proceeding.

Any person desiring to protest this filing should file a protest with the Federal Energy Regulatory Commission, 888 First Street, NE., Washington, DC 20426, in accordance with section 385.211 of the Commission's Rules and Regulations. All such protests must be filed as provided in section 154.210 of the Commissions Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-20203 Filed 8-9-00; 8:45 am]

BILLING CODE 6717-01-M